DEPARTMENT OF VETERANS AFFAIRS

Notice of Intent To Grant an Exclusive License

AGENCY: Department of Veterans Affairs, Office of Research and Development.

ACTION: Notice of intent.

SUMMARY: Notice is hereby given that the Department of Veterans Affairs, Office of Research and Development, intends to grant to CellCyte Genetics, Inc., PO Box 493, Kirkland, WA 98083 USA an exclusive license to practice the following patent applications: U.S. Provisional Patent Application Serial No. 60/364,498 filed March 15, 2002, entitled “Methods and Compositions for Directing Cells to Target Organs”; U.S. Patent Application Serial No. 10/388,964 filed March 14, 2003, entitled “Methods and Compositions for Directing Cells to Target Organs”; International Patent Application Serial No. PCT/US03/07834 filed March 13, 2003, entitled “Methods and Compositions for Directing Cells to Target Organs”; International Patent Application Serial No. PCT/US03/07934 filed March 13, 2003, entitled “Methods and Compositions Using Cellular Asialodeterminants and Glycoconjugates for Targeting Cells to Tissues and Organs”; International Patent Application Serial No. PCT/US03/32602 filed October 10, 2003 entitled “Detection/Localization and Staging of Tumors Using Labeled Activated Lymphocytes Directed to a Tumor Specific Epitope” and International Patent Application Serial No. PCT/US03/07836 filed March 14, 2003, entitled “Methods and Compositions for Directing Cells to Target Organs”.

DATES: Comments must be received within fifteen (15) days from the date of this published Notice.

ADDRESSES: Send comments to Saleem J. Sheredos, Acting Director of Technology Transfer, Department of Veterans Affairs; Office of Research and Development, Attn: 12TT; 103 South Gay Street, Baltimore, MD 21202. Telephone: (410) 962-1800 ext 267; Facsimile: (410) 962-2141; e-mail: saleem@vard.org.

FOR FURTHER INFORMATION CONTACT: Copies of the published patent applications may be obtained from the U.S. Patent and Trademark Office at http://www.uspto.gov.

SUPPLEMENTARY INFORMATION: It is in the public interest to so license these inventions as CellCyte, Inc., submitted a complete and sufficient application for a license. The prospective exclusive license will be royalty-bearing and will comply with the terms and conditions of 35 U.S.C. 209 and 37 CFR 404.7. The prospective exclusive license may be granted unless, within fifteen (15) days from the date of this published Notice, the Department of Veterans Affairs Office of Research and Development receives written evidence and argument which establishes that the grant of the license would not be consistent with the requirements of 35 U.S.C. 209 and 37 CFR 404.7.

Approved: July 13, 2005.
Gordon H. Mansfield,
Deputy Secretary, Department of Veterans Affairs.

[FR Doc. 05-14542 Filed 7-21-05; 8:45 am]

BILLING CODE 8320-01-P